DEPARTMENT OF COMMERCE

Foreign-Trade Zones Board

[Order No. 1385]

Expansion and Reorganization of Foreign-Trade Zone 40,Cleveland, Ohio, Area

Pursuant to its authority under the Foreign-Trade Zones Act of June 18, 1934, as amended (19 U.S.C. 81a-81u), the Foreign-Trade Zones Board (the Board) adopts the following Order:

Whereas, the Cleveland-Cuyahoga County Port Authority, grantee of Foreign-Trade Zone 40, submitted an application to the Board for authority to expand Site 7B (Progress Drive Business Park) and Site 10 (Solon Business Park) to include additional parcels and to consolidate, reorganize and renumber the general-purpose zone sites within the Cleveland Customs port of entry (FTZ Docket 20-2004; filed 5/5/04);

Whereas, notice inviting public comment was given in the Federal Register (69 FR 26356, 5/12/04) and the application has been processed pursuant to the FTZ Act and the Board's regulations; and,Whereas, the Board adopts the findings and recommendations of the examiner's report, and finds that the requirements of the FTZ Act and Board's regulations are satisfied, and that the proposal is in the public interest;

Now, therefore, the Board hereby orders:

The application to expand FTZ 40 and to consolidate, reorganize and renumber the general-purpose zone sites is approved, subject to the Act and the Board's regulations, including Section 400.28, and further subject to the Board's standard 2,000-acre activation limit for the overall zone project.

Signed at Washington, DC, this 15th day of April, 2005.

Joseph A. Spetrini,
Acting Assistant Secretary of Commerce for Import Administration,Alternate Chairman, Foreign-Trade Zones Board.
Attest:
Dennis Puccinelli,
Executive Secretary.

[FR Doc. 05-8427 Filed 4-26-05; 8:45 am]

BILLING CODE 3510-DS-S